DEPARTMENT OF THE INTERIOR

Bureau of Ocean Energy Management

[Docket No. BOEM 2023-0037]

Notice of Intent To Prepare an Environmental Impact Statement for the Proposed Beacon Wind Project on the U.S. Outer Continental Shelf Offshore Massachusetts

AGENCY: Bureau of Ocean Energy Management (BOEM), Interior.

ACTION: Notice of intent (NOI) to prepare an environmental impact statement (EIS); request for comments.

SUMMARY: Consistent with the regulations implementing the National Environmental Policy Act (NEPA), BOEM announces its intent to prepare an EIS for a construction and operations plan (COP) submitted by Beacon Wind LLC (Beacon Wind). This NOI initiates the public scoping and comment process under NEPA and also seeks public comments under section 106 of the National Historic Preservation Act (NHPA) and its implementing regulations. Beacon Wind proposes to construct and operate an offshore wind facility located in Renewable Energy Lease Area OCS-A 0520 (Lease Area), which is approximately 128,811 acres and 17 nautical miles (nm) south of Nantucket, Massachusetts, and 52 nm east of Montauk, New York. Beacon Wind, a joint venture owned by Equinor U.S. Holdings, Inc. and BP Wind Energy North America, Inc., proposes to develop the entire Lease Area in two wind farms, known as Beacon Wind 1 (BW1) and Beacon Wind 2 (BW2) (collectively, the Project).

DATES: Your comments must be received by BOEM on or before July 31, 2023 for timely consideration.

Public Participation:

BOEM will hold two in-person and two virtual public scoping meetings for the Beacon Wind EIS at the following dates and times (eastern time):

In Person:

• Tuesday, July 18, 2023, 6:00-9:00 p.m., UMASS-Dartmouth, The Market Place Dining Hall, 285 Old Westport Road, Dartmouth, MA 02747; and

• Thursday, July 20, 2023, 6:00-9:00 p.m., Adria Hotel and Conference Center Ballroom, 221-17 Northern Blvd., Queens, NY 11361-3600

Virtual:

• Thursday, July 13, 2023, 11:00 a.m.-1:00 p.m.; and

• Wednesday, July 26, 2023, 11:00 a.m.-1:00 p.m.

Registration for the virtual public meetings may be completed here: https://www.boem.gov/renewable-energy/state-activities/beacon-wind or by calling (888) 788 0099 (toll free). Registration for in-person meetings will occur on site. The meetings are open to the public and free to attend.

ADDRESSES: Written comments can be submitted in any of the following ways:

• Delivered by mail or delivery service, enclosed in an envelope labeled “BEACON WIND EIS” and addressed to Jessica Stromberg, Chief, Environmental Branch for Renewable Energy, Bureau of Ocean Energy Management, 45600 Woodland Road, VAM-OREP, Sterling, Virginia 20166; or

• Through the regulations.gov web portal: Navigate to www.regulations.gov and search for Docket No. BOEM-2023-0037. Select the document in the search results on which you want to comment, click on the “Comment” button, and follow the online instructions for submitting your comment. A commenter's checklist is available on the comment web page. Enter your information and comment, then click “Submit.”

Detailed information about the proposed Project, including the COP and instructions for making written comments, can be found on BOEM's website at: www.boem.gov/renewable-energy/state-activities/beacon-wind.

FOR FURTHER INFORMATION CONTACT: Bonnie Houghton, Office of Renewable Energy Programs, Bureau of Ocean Energy Management, 45600 Woodland Road, Sterling, Virginia 20166, telephone (703) 438-5108, or email Bonnie.Houghton@boem.gov.

SUPPLEMENTARY INFORMATION:

Purpose of and Need for the Proposed Action

In Executive Order 14008, “Tackling the Climate Crisis at Home and Abroad,” issued on January 27, 2021, President Biden stated that the policy of his administration is “to organize and deploy the full capacity of its agencies to combat the climate crisis to implement a Government-wide approach that reduces climate pollution in every sector of the economy; increases resilience to the impacts of climate change; protects public health; conserves our lands, waters, and biodiversity; delivers environmental justice; and spurs well-paying union jobs and economic growth, especially through innovation, commercialization, and deployment of clean energy technologies and infrastructure.”

Through a competitive leasing process conducted under 30 CFR 585.211, BOEM awarded Equinor Wind US, LLC, the commercial wind energy lease OCS-A 0520. Beacon Wind acquired 100 percent interest in the Lease Area by assignment effective January 27, 2021, and, has the exclusive right to submit a COP for activities in it.

Beacon Wind submitted a COP to BOEM proposing the construction, operation, maintenance, and conceptual decommissioning of two offshore wind energy facilities (BW1 & BW2) in Lease Area OCS-A-0520. Beacon Wind's goal is to develop two offshore wind energy facilities in the Lease Area to provide renewable energy to the State of New York and other northeastern States. Beacon Wind proposes to construct up to 155 wind turbine generators (WTG) with 2 offshore substations (OSS), for a total of up to 157 structures in a 1 nm x 1 nm grid distributed across the Lease Area (Proposed Action). The individual wind farms within the Lease Area would be electrically isolated and independent from one another. Transmission systems would connect each OSS to separate onshore points of interconnection (POIs).

BW1 has a 25-year offtake agreement with the New York State Energy Research and Development Authority (NYSERDA) and is expected to deliver 1,230 megawatts (MW) of power to the NYISO electric grid at a POI in Queens, New York. Beacon Wind is actively seeking an offtake agreement for BW2 in the New England and New York region. Beacon Wind anticipates that BW2 will deliver more than 1,200 MW of power and interconnect with either the NYISO grid in Queens or with the New England Independent System Operator (ISO-NE) grid in Waterford, Connecticut.

BW1 would supply electricity in support of renewable and offshore wind energy goals established by the State of New York under its 2019 Climate Leadership and Community Protection Act. Among other things, the law mandates that at least 70 percent of New York's electricity come from renewable energy sources by 2030 and that 9,000 MW come from offshore wind energy by 2035. If BW2 also obtains an offtake agreement with NYSERDA, it would supply additional electricity along the same cable route as BW1 in support of New York's goals.

Based on BOEM's authority under the Outer Continental Shelf Lands Act (OCSLA) (43 U.S.C. 1331 et seq.) to authorize renewable energy activities on the Outer Continental Shelf and its obligations under the lease, BOEM's purpose is to determine whether to approve, approve with modifications, or disapprove Beacon Wind's COP. BOEM's purpose supports the policies stated in Executive Order 14008 and the Federal goal to deploy 30 gigawatts of offshore wind energy capacity in the United States by 2030, while protecting biodiversity and promoting ocean co-use. BOEM will make its determination after weighing the EIS analysis and the enumerated goals in subsection 8(p)(4) of OCSLA.

In addition, the National Oceanic and Atmospheric Administration's National Marine Fisheries Service (NMFS) anticipates one or more requests for authorization under the Marine Mammal Protection Act (MMPA) (16 U.S.C. 1361 et seq.) to take marine mammals incidental to Project activities. NMFS's decision whether to issue an incidental take authorization is a major Federal action connected to BOEM's action (40 CFR 1501.9(e)(1)). The purpose of the NMFS action—which is a direct outcome of Beacon Wind's request for authorization to take marine mammals incidental to Project activities (e.g., pile driving)—is to evaluate Beacon Wind's request under the MMPA and its implementing regulations, which are administered by NMFS. NMFS will consider the impacts of Beacon Wind's activities on relevant resources and, if appropriate, issue the permit or authorization. NMFS must render a decision regarding Beacon Wind's request for incidental take authorization under the MMPA (16 U.S.C. 1371(a)(5)(D)), its implementing regulations, and NMFS's delegated authorities. If NMFS decides to authorize incidental takes, NMFS intends to adopt, after independent review, BOEM's EIS to support that decision and fulfill its NEPA requirements.

The U.S. Army Corps of Engineers (USACE) New England District anticipates permit applications from Beacon Wind for actions undertaken through authority delegated to the district engineer under section 10 of the Rivers and Harbors Act of 1899 (RHA) (33 U.S.C. 403) and section 404 of the Clean Water Act (CWA) (33 U.S.C. 1344). In addition, Beacon Wind may need section 408 permission pursuant to 33 U.S.C. 408, for any actions it proposes to take that have the potential to alter, occupy, or use any existing federally authorized projects. USACE considers issuance of permits and permissions under these three delegated authorities a major Federal action connected to BOEM's action (40 CFR 1501.9(e)(1)).

As determined by USACE for section 404(b)(1) guidelines evaluation, the basic Project purpose is offshore wind energy generation. Beacon Wind's need, as provided in the COP and reviewed by USACE for NEPA purposes, is to generate electricity from offshore wind energy facilities located in Lease Area OCS-A 0520.

As determined by Engineer Circular 1165-2-220, the purpose of USACE section 408 action is to evaluate Beacon Wind's request and determine whether its Proposed Action would adversely impact the public interest or a USACE project. USACE section 408 permission is needed to ensure that congressionally authorized projects continue to provide their intended benefits to the public. USACE intends to adopt BOEM's EIS in accordance with 40 CFR 1506.3 if, after its independent review of the document, USACE concludes that BOEM has satisfactorily addressed its comments and recommendations. USACE intends to adopt BOEM's EIS to support its decision on any permits or permissions requested under sections 10 and 14 of the RHA and section 404 of the CWA. Based on its participation as a cooperating agency and its consideration of BOEM's EIS, USACE intends to issue a record of decision (ROD) to formally document its decision on the Proposed Action.

Proposed Action and Preliminary Alternatives

Beacon Wind proposes to construct and operate two offshore wind energy facilities within Lease Area OCS-A-0520, with up to 157 total foundation locations to be occupied by a combination of up to 155 WTGs and 2 OSSs. Offshore components for BW1 and BW2 include between 61 and 94 WTGs and 1 OSS each, foundations and associated scour protection for WTGs, associated inter-array cables, 1 high-voltage direct current (HVDC) submarine export cable route each, cable protection, and 1 temporary meteorological and oceanographic (metocean) buoy. Beacon Wind is considering monopile, piled jacket, or suction-bucket jacket foundation types to support the WTG. The OSS would be supported by either piled jacket or suction-bucket jacket foundations. The WTGs, OSSs, foundations, and inter-array cables would be located entirely within the Lease Area. The submarine export cables would be buried in the U.S. Outer Continental Shelf and in the seabed under the State waters of New York and potentially of Connecticut (if the export cable from BW2 makes landfall in Waterford, Connecticut).

The BW1 submarine export cable would make landfall and interconnect to the NYISO grid in Queens. The BW2 cable would make landfall in either Queens or Waterford; if landfall is in Waterford, the cables would interconnect with the ISO-NE grid in Connecticut. BW1's onshore components would be sited in Queens, and BW2's in either Queens or Waterford.

BOEM will evaluate reasonable alternatives to the Proposed Action that are identified during the scoping period and included in the draft EIS, including a no action alternative. Under the no action alternative, BOEM would disapprove the Beacon Wind COP, and the proposed wind energy facilities described in the COP would not be built within the Lease Area.

After completing the EIS and associated consultations, BOEM will decide through a ROD whether to approve, approve with modification, or disapprove the Beacon Wind COP. If BOEM approves the COP, Beacon Wind must comply with all conditions of its approval.

Summary of Potential Impacts

The draft EIS will identify and describe the potential effects of the Proposed Action and the alternatives on the human environment. Those potential effects must be reasonably foreseeable and must have a reasonably close causal relationship to the Proposed Action and the alternatives. Such effects include those that occur at the same time and place as the Proposed Action and alternatives and those that are later in time or occur in a different place. Potential effects include, but are not limited to, impacts (whether beneficial or adverse) on air quality, water quality, bats, benthic habitat, essential fish habitat, invertebrates, finfish, birds, marine mammals, terrestrial and coastal habitats and fauna, sea turtles, wetlands and other waters of the United States, commercial fisheries and for-hire recreational fishing, cultural resources, Tribal issues of concern, demographics, employment, economics, environmental justice, land use and coastal infrastructure, navigation and vessel traffic, other marine uses, recreation and tourism, and visual resources. These potential effects will be analyzed in the draft and final EIS.

Based on a preliminary evaluation of the resources listed in the preceding paragraph, BOEM expects potential impacts on sea turtles and marine mammals from underwater noise caused by construction and from collision risks with Project-related vessel traffic. Structures installed by the Project could permanently change benthic and fish habitats (e.g., creation of artificial reefs). Commercial fisheries and for-hire recreational fishing could be impacted. Project structures above the water could affect the visual character defining historic properties and recreational and tourism areas. Project structures also would pose an allision and height hazard to vessels passing close by, and vessels would, in turn, pose a hazard to the structures. Additionally, the Project could cause conflicts with military activities, air traffic, land-based radar services, cables and pipelines, and scientific surveys. The EIS will analyze all impacts, as well as potential measures that would avoid, minimize, or mitigate identified non-beneficial impacts.

Beneficial impacts are also expected by facilitating achievement of State renewable energy goals, increasing job opportunities, improving air quality, and addressing climate change through E.O. 14008. The Project is estimated to support 5,958 to 6,491 job-years cumulatively during the development and construction phases, including indirect and induced employment opportunities. During the operations and maintenance phase, the Project is estimated to support 21,117 to 22,681 jobs-years during an estimated 40 years of operation and maintenance (including decommissioning).

Anticipated Permits and Authorizations

In addition to the requested COP approval, various other Federal, State, and local authorizations will be required for the Project. Applicable Federal laws include the Endangered Species Act, Magnuson‐Stevens Fishery Conservation and Management Act, MMPA, RHA, CWA, Clean Air Act section 328, and the Coastal Zone Management Act. BOEM will also conduct government-to-government Tribal consultations. For a detailed listing of regulatory requirements applicable to the Project, please see the COP, volume I, available at www.boem.gov/renewable-energy/state-activities/beacon-wind.

BOEM has chosen to use the NEPA process to fulfill its obligations under NHPA. While BOEM's obligations under NHPA and NEPA are independent, regulations implementing section 106 of NHPA allow the NEPA process and documentation to substitute for various aspects of the NHPA review. See 36 CFR 800.8(c). This process is intended to improve efficiency, promote transparency and accountability, and support a broadened discussion of potential effects that the Project could have on the human environment. During preparation of the EIS, BOEM will ensure that the NEPA process will fully meet all NHPA obligations.

Schedule for the Decision-Making Process

After the draft EIS is completed, BOEM will publish a notice of availability (NOA) and request public comments on the draft EIS. BOEM currently expects to issue the NOA in July 2024. After the public comment period ends, BOEM will review and respond to comments received and will develop the final EIS. BOEM currently expects to make the final EIS available to the public in March 2025. A ROD will be completed no sooner than 30 days after the final EIS is released, in accordance with 40 CFR 1506.11.

This Project is a “covered project” under section 41 of the Fixing America's Surface Transportation Act (FAST-41). FAST-41 provides increased transparency and predictability by requiring Federal agencies to publish comprehensive permitting timetables for all covered projects. FAST-41 also provides procedures for modifying permitting timetables to address the unpredictability inherent in the environmental review and permitting process for significant infrastructure projects. To view the FAST-41 Permitting Dashboard for the Project, visit: www.permits.performance.gov/permitting-project/beacon-wind.

Scoping Process

This NOI commences the public scoping process to identify issues and potential alternatives for consideration in the Beacon Wind EIS. BOEM will hold virtual public scoping meetings at the times and dates described above under the DATES heading. Throughout the scoping process, Federal agencies, Tribes, State and local governments, and the public have the opportunity to help BOEM identify significant resources and issues, impact-producing factors, reasonable alternatives (e.g., size, geographic, seasonal, or other restrictions on construction and siting of facilities and activities), and potential mitigation measures to be analyzed in the EIS, as well as to provide additional information.

As noted above, BOEM will use the NEPA process to comply with NHPA. BOEM will consider all written requests from individuals and organizations to participate as consulting parties under NHPA and, as discussed below, will determine who among those parties will be a consulting party in accordance with NHPA regulations.

NEPA Cooperating Agencies

BOEM invites other Federal agencies and State and local governments to consider becoming cooperating agencies and invites federally recognized Tribes to become cooperating Tribal governments in the preparation of this EIS. The Council on Environmental Quality (CEQ) NEPA regulations specify that cooperating agencies and governments are those with “jurisdiction by law or special expertise.” Potential cooperating agencies should consider their authority and capacity to assume the responsibilities of a cooperating agency and should be aware that an agency's role in the environmental analysis neither enlarges nor diminishes the final decision-making authority of any other agency involved in the NEPA process.

BOEM will provide potential cooperating agencies with a written summary of expectations for cooperating agencies, including schedules, milestones, responsibilities, scope and detail of cooperating agencies' expected contributions, and availability of pre-decisional information. BOEM anticipates this summary will form the basis for a memorandum of agreement between BOEM and any non-Department of the Interior cooperating agency. Agencies should also consider the factors for determining cooperating agency status in the CEQ memorandum entitled “Cooperating Agencies in Implementing the Procedural Requirements of the National Environmental Policy Act,” dated January 30, 2002. This document is available on the internet at: www.energy.gov/sites/prod/files/nepapub/nepa_documents/RedDont/G-CEQ-CoopAgenciesImplem.pdf. BOEM, as the lead agency, does not provide financial assistance to cooperating agencies.

Governmental entities that are not cooperating agencies will have opportunities to provide information and comments to BOEM during the public input stages of the NEPA process.

NHPA Consulting Parties

Individuals and organizations with a demonstrated interest in the Project can request to participate as NHPA consulting parties under 36 CFR 800.2(c)(5) based on their legal or economic stake in historic properties affected by the Project.

Before issuing this NOI, BOEM compiled a list of potential consulting parties and invited them to become consulting parties. To become a consulting party, those invited must respond in writing by the requested response date.

Interested individuals and organizations that did not receive a written invitation can request to be consulting parties by writing to the staff NHPA contact at ICF International, Inc., the third-party EIS contractor supporting BOEM in its administration of this review. ICF's NHPA contact for this review is Alice Muntz at BeaconWind106@icf.com. BOEM will determine which interested parties should be consulting parties.

Comments

Federal agencies, Tribes, State and local governments, and other interested parties are requested to comment on the scope of this EIS, significant issues that should be addressed, and alternatives that should be considered.

Information on Submitting Comments

a. Freedom of Information Act

BOEM will protect privileged or confidential information that you submit when required by the Freedom of Information Act (FOIA). Exemption 4 of FOIA applies to trade secrets and commercial or financial information that is privileged or confidential. If you wish to protect the confidentiality of such information, clearly label it and request that BOEM treat it as confidential. BOEM will not disclose such information if BOEM determines under 30 CFR 585.114(b) that it qualifies for exemption from disclosure under FOIA. Please label privileged or confidential information “Contains Confidential Information” and consider submitting such information as a separate attachment.

BOEM will not treat as confidential any aggregate summaries of such information or comments not containing such privileged or confidential information. Information that is not labeled as privileged or confidential may be regarded by BOEM as suitable for public release.

b. Personally Identifiable Information (PII)

BOEM discourages anonymous comments. Please include your name and address as part of your comment. You should be aware that your entire comment, including your name, address, and any other personally identifiable information included in your comment, may be made publicly available. All comments from individuals, businesses, and organizations will be available for public viewing on regulations.gov.

For BOEM to consider withholding your PII from disclosure, you must identify any information contained in your comments that, if released, would constitute a clearly unwarranted invasion of your personal privacy. You must also briefly describe any possible harmful consequences of the disclosure of information, such as embarrassment, injury, or other harm. Even if BOEM withholds your information in the context of this notice, your submission is subject to FOIA. If your submission is requested under FOIA, your information will only be withheld if a determination is made that one of FOIA's exemptions to disclosure applies. Such a determination will be made in accordance with the Department's FOIA regulations and applicable law.

c. Section 304 of the NHPA (54 U.S.C. 307103(a))

After consultation with the Secretary, BOEM is required to withhold the location, character, or ownership of historic resources if it determines that disclosure may, among other things, risk harm to the historic resources or impede the use of a traditional religious site by practitioners. Tribal entities should designate information that falls under section 304 of NHPA as confidential.

Request for Identification of Potential Alternatives, Information, and Analyses Relevant to the Proposed Action

BOEM requests data, comments, views, information, analysis, alternatives, or suggestions relevant to the Proposed Action from the public; affected Federal, Tribal, State, and local governments, agencies, and offices; the scientific community; industry; or any other interested party. Specifically, BOEM requests information on the following topics:

1. Potential effects that the Proposed Action could have on biological resources, including bats, birds, coastal fauna, finfish, invertebrates, essential fish habitat, marine mammals, and sea turtles.

2. Potential effects that the Proposed Action could have on physical resources and conditions including air quality, water quality, wetlands, and other waters of the United States.

3. Potential effects that the Proposed Action could have on socioeconomic and cultural resources, including commercial fisheries and for-hire recreational fishing, demographics, employment, economics, environmental justice, land use and coastal infrastructure, navigation and vessel traffic, other uses (marine minerals, military use, aviation), recreation and tourism, and scenic and visual resources.

4. Other possible reasonable alternatives to the Proposed Action that BOEM should consider, including additional or alternative avoidance, minimization, and mitigation measures.

5. As part of its compliance with NHPA section 106 and its implementing regulations (36 CFR part 800), BOEM seeks comment and input from the public and consulting parties regarding the identification of historic properties within the Proposed Action's area of potential effects, the potential effects on those historic properties from the activities proposed in the COP, and any information that supports identification of historic properties under NHPA. BOEM also solicits proposed measures to avoid, minimize, or mitigate any adverse effects on historic properties. BOEM will present available information regarding known historic properties during the public scoping period at www.boem.gov/renewable-energy/state-activities/beacon-wind. BOEM's effects analysis for historic properties will be available for public and consulting party comment with the draft EIS.

6. Information on other current or planned activities in, or in the vicinity of, the Proposed Action, their possible impacts on the Project, and the Project's possible impacts on those activities.

7. Other information relevant to the Proposed Action and its impacts on the human environment.

To promote informed decision-making, comments should be as specific as possible and should provide as much detail as necessary to meaningfully and fully inform BOEM of the commenter's position. Comments should explain why the issues raised are important to the consideration of potential environmental impacts and possible alternatives to the Proposed Action, as well as economic, employment, and other impacts affecting the quality of the human environment.

The draft EIS will include a summary of all alternatives, information, and analyses submitted during the scoping process for consideration by BOEM and the cooperating agencies.

Authority: This NOI is published in accordance with NEPA, 42 U.S.C. 4321 et seq., and 40 CFR 1501.9.

Karen J. Baker,
Chief, Office of Renewable Energy Programs, Bureau of Ocean Energy Management.

[FR Doc. 2023-13918 Filed 6-29-23; 8:45 am]

BILLING CODE 4340-98-P